DEPARTMENT OF COMMERCE

National Oceanic and Atmospheric Administration

[Docket No. 021028257-2257-01]

Announcement of Additional Funding Opportunities From FY04 Announcement of Opportunity

AGENCY: Office of Ocean Exploration, National Oceanic and Atmospheric Administration (NOAA), Commerce.

ACTION: Notice.

SUMMARY: NOAA's Office of Ocean Exploration (OE) publishes this notice to announce that an application submitted in response to the NOAA Ocean Exploration Initiative Fiscal Year (FY) 2003 is being considered for funding with monies available through the FY04 solicitation. The rationale for this is as follows. The proposal under consideration for funding was well reviewed in FY03 and met the mission and goals of this office. However, funds and other essential resources were not available in FY03 to conduct the work proposed. Because the work was so well matched to the OE program goals, a programmatic decision was made to revisit and recommend funding for this proposal with FY04 funds.

FOR FURTHER INFORMATION CONTACT: Randi Neff, OE Program Grants Coordinator, NOAA Office of Ocean Exploration, 301-713-9444, facsimile 301-713-4252, or submit inquiries via e-mail to the Frequently Asked Questions address: oar.oe.FAQ@noaa.gov. A copy of this notice will be posted on the Ocean Explorer Website, which can be found at http://oceanexplorer.noaa.gov.

Dated: May 24, 2004.
Louisa Koch,
Deputy Assistant Administrator, Office of Oceanic and Atmospheric Research, National Oceanic and Atmospheric Administration.

[FR Doc. 04-12044 Filed 5-26-04; 8:45 am]

BILLING CODE 3510-KD-P